DEPARTMENT OF TRANSPORTATION

Coast Guard

33 CFR Part 100

[CGD07-00-029]

RIN 2115-AE46

Special Local Regulations: Annual Suncoast Kilo Run, Sarasota Bay, Sarasota, FL

AGENCY: Coast Guard, DOT.

ACTION: Temporary final rule.

SUMMARY: The Coast Guard is amending the final rule for the Annual Suncoast Kilo Run to change the date from the first Friday in July to the last Friday in June for 2000 only. The high-speed boat race event will be held from 8 a.m. to 1 p.m. Eastern Daylight Time (EDT) on June 30, 2000, in Sarasota Bay, Sarasota, Florida. These regulations are needed to provide for the safety of life on navigable waters during the event.

DATES: This rule becomes effective at 8 a.m. and terminates at 1 p.m. EDT on June 30, 2000.

ADDRESSES: The public docket for this rulemaking is maintained by Commanding Officer, U.S. Coast Guard Group St. Petersburg. Any materials concerning this rulemaking should be mailed to Commanding Officer, U.S. Coast Guard Group St. Petersburg, 600 8th Ave SE, St. Petersburg, FL 33701.

FOR FURTHER INFORMATION CONTACT: Chief Petty Officer Steve Aykroyd, Coast Guard Group St. Petersburg at (727) 824-7554.

SUPPLEMENTARY INFORMATION:

Regulatory Information

We did not publish a notice of proposed rulemaking (NPRM) for this regulation. Under 5 U.S.C. 553(b)(B), the Coast Guard finds that good cause exists for not publishing an NPRM because this is an annual event with a date change for this year that has been highly publicized. It is impractical to publish an NPRM at this time because to do so would interfere with the 30-day notice requirement for the final rule.

Background and Purpose

These regulations are required to provide for the safety of life on navigable waters because of the inherent danger of high speed competition boat racing in the vicinity of spectator craft during the Annual Suncoast Kilo Run, Sarasota Bay, Sarasota, FL. A permanent regulation has been established for this event (33 CFR 100.718) which is effective on the first Friday in July each year. Logistical problems caused the organizers to request that the event be moved for this year to June 30. The permanent regulations create a regulated area that prohibits non-participating vessels from entering the regulated area during the event. The practical effect of this amendment is to change the date of the event for this year only from the first Friday in July to June 30, 2000.

Regulatory Evaluation

This rule is not a “significant regulatory action” under section 3(f) of Executive Order 12866 and does not require an assessment of potential costs and benefits under section 6(a)(3) of that order. The Office of Management and Budget has not reviewed it under that order. It is not “significant” under the regulatory policies and procedures of the Department of Transportation (DOT) (44 FR 11040; February 26, 1979). The Coast Guard expects the economic impact of this proposal to be so minimal that a full Regulatory Evaluation under paragraph 10(e) of the regulatory policies and procedures of DOT is unnecessary. The regulated area will only be in effect for 5 hours on one day.

Small Entities

Under the Regulatory Flexibility Act (5 U.S.C. 601 et seq.), the Coast Guard must consider whether this rule will have a significant economic effect upon a substantial number of small entities. “Small entities” include small business, not-for-profit organizations that are independently owned and operated and are not dominant in their fields, and governmental jurisdictions with populations of less than 50,000.

The Coast Guard certifies under 5 U.S.C. 605(b) that this rule will not have a significant economic impact on a substantial number of small entities as the regulations will only be in effect for 5 hours on one day in a limited area of Sarasota Bay, Florida.

Assistance for Small Entities

Under section 213(a) of the Small Business Regulatory Enforcement Fairness Act of 1996 (Pub. L. 104-221), we offer to assist small entities in understanding the rule so that they could better evaluate its effects on them and participate in the rulemaking process. Small entities may contact the person listed under FOR FURTHER INFORMATION CONTACT for assistance in understanding and participating in this rulemaking. We also have a point of contact for commenting on actions by employees of the Coast Guard. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information requirements under the Paperwork Reduction Act (44 U.S.C. 3501 et seq.).

Federalism

We have analyzed this rule under Executive Order 13132 and have determined that this rule does not have implications for federalism under that order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or safety that may disproportionately affect children.

Environment

The Coast Guard considered the environmental impact of this rule and has determined pursuant to Figure 2-1, paragraph 34(h) of Commandant Instruction M16475.1C, that this proposal is categorically excluded from further environmental documentation.

List of Subjects in 33 CFR Part 100

Harbors, Marine safety, Navigation (water), Reports and recordkeeping requirements, Security measures, Waterways.

Temporary Regulations

In consideration of the foregoing, the Coast Guard proposes to amend Part 100 of Title 33, Code of Federal Regulations, as follows:

PART 100—[AMENDED]

1. The authority citation for part 100 continues to read as follows:

Authority: 33 U.S.C. 1233, 49 CFR 1.46, and 33 CFR 100.35.

2. In § 100.718, paragraph (c) is suspended and a new paragraph (d) is added to read as follows:

§ 100.718 Annual Suncoast Kilo Run; Sarasota Bay, Sarasota, FL.

* * * * *

(d) Dates: This section becomes effective at 8 a.m. and terminates at 1 p.m. EDT on June 30, 2000.

Dated: April 7, 2000.
G.W. Sutton,
Captain U.S. Coast Guard, Commander, Seventh Coast Guard District, Acting.

[FR Doc. 00-10151 Filed 4-21-00; 8:45 am]

BILLING CODE 4910-15-U